DEPARTMENT OF LABOR

Employment and Training Administration

[TA-W-64,431]

Alyeska Pipeline Service Company, Anchorage, AK; Notice of Negative Determination Regarding Application for Reconsideration

By application dated March 20, 2009, a company official requested administrative reconsideration of the Department's negative determination regarding eligibility to apply for Trade Adjustment Assistance (TAA) and Alternative Trade Adjustment Assistance (ATAA), applicable to workers and former workers of the subject firm. The denial notice was signed on January 26, 2009 and published in the Federal Register on February 23, 2009 (74 FR 8116).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination, which was based on the finding that imports of crude oil did not contribute importantly to worker separations at the subject facility and there was no shift of production to a foreign country. The subject firm did not import crude oil nor shift production of crude oil to a foreign country during the 2006, 2007 and January through October 2008 period.

The petitioner alleged that the subject firm had to automate their 30 year old manned facilities, in order to stay competitive with lower cost foreign crude oil production locations and reduce costs.

The initial investigation, in fact, revealed that automation of the facilities and technological improvements were the reason behind the worker separations at the subject firm.

The petitioner also alleged that foreign imports of crude oil have increased from 2003 through 2008, thus negatively impacting production of crude oil at the subject firm.

In order to establish import impact, the Department considers import numbers for the relevant period (one year prior to the date of the petition). According to the data available from the United States Department of Energy, United States imports of crude oil have been decreasing absolutely and relatively to U.S. production of crude oil from 2006 to 2007 and further decreased from January through October 2008, when compared with the corresponding 2007 period.

The petitioner further alleges that job losses at the subject facility were also attributable to a shift in production of crude oil to foreign locations.

The investigation revealed that Alyeska Pipeline Service Company, Anchorage Pipeline Service Company did not shift production of crude oil from the subject facility to a foreign country during the relevant period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 14th day of April 2009.
Elliott S. Kushner,
Certifying Officer, Division of Trade Adjustment Assistance.

[FR Doc. E9-9937 Filed 4-29-09; 8:45 am]

BILLING CODE 4510-FN-P